DEPARTMENT OF ENERGY

Federal Energy Regulatory Commission

Combined Notice of Filings #1

Take notice that the Commission received the following electric corporate filings:

Docket Numbers: EC21-113-000.

Applicants: Covanta Holding Corporation, Covert Mergeco, Inc.

Description: Application for Authorization Under Section 203 of the Federal Power Act of Covanta Holding Corporation.

Filed Date: 8/11/21.

Accession Number: 20210811-5198.

Comment Date: 5 p.m. ET 9/1/21.

Take notice that the Commission received the following exempt wholesale generator filings:

Docket Numbers: EG21-216-000.

Applicants: Caddo Wind, LLC.

Description: Notice of Self-Certification of Exempt Wholesale Generator Status od Caddo Wind LLC.

Filed Date: 8/11/21.

Accession Number: 20210811-5092.

Comment Date: 5 p.m. ET 9/1/21.

Take notice that the Commission received the following electric rate filings:

Docket Numbers: ER20-1742-002.

Applicants: San Diego Gas & Electric Company.

Description: Compliance filing: Order No. 864 Compliance Filing to be effective 1/27/2020.

Filed Date: 8/12/21.

Accession Number: 20210812-5002.

Comment Date: 5 p.m. ET 9/2/21.

Docket Numbers: ER20-1992-002.

Applicants: Public Service Company of New Mexico.

Description: Compliance filing: PNM Response to June 28, 2021 Deficiency Letter to be effective N/A.

Filed Date: 8/12/21.

Accession Number: 20210812-5121.

Comment Date: 5 p.m. ET 9/2/21.

Docket Numbers: ER21-1280-002.

Applicants: Southern California Edison Company.

Description: Compliance filing: SCE's Compliance Filing—Morongo WOD Formula Rate Protocols to be effective 5/5/2021.

Filed Date: 8/12/21.

Accession Number: 20210812-5050.

Comment Date: 5 p.m. ET 9/2/21.

Docket Numbers: ER21-2289-000.

Applicants: Clover Creek Solar, LLC.

Description: Supplement to June 30, 2021 Market Based Rate Application of Clover Creek Solar, LLC under ER21-2289. Also submitted, Second Supplement to June 30, 2021 Clover Creek Solar, LLC tariff filing.

Filed Date: 8/4/21.

Accession Number: 20210804-5127; 20210811-5192.

Comment Date: 5 p.m. ET 8/23/21.

Docket Numbers: ER21-2653-000.

Applicants: Southern California Edison Company.

Description: § 205(d) Rate Filing: Amend GIA & DSA (SA 667-668) Wind Stream Operations, LLC & Terminate 6 Agmts to be effective 10/11/2021.

Filed Date: 8/11/21.

Accession Number: 20210811-5099.

Comment Date: 5 p.m. ET 9/1/21.

Docket Numbers: ER21-2654-000.

Applicants: Midcontinent Independent System Operator, Inc.

Description: § 205(d) Rate Filing: 2021-08-11_SA 3391 Ameren IL-Maple Flats Solar Energy Center (J813) to be effective 8/2/2021.

Filed Date: 8/11/21.

Accession Number: 20210811-5118.

Comment Date: 5 p.m. ET 9/1/21.

Docket Numbers: ER21-2655-000.

Applicants: Southwestern Public Service Company.

Description: § 205(d) Rate Filing: SPS-Llano-LGIA-Second Amnd-101-0.0.0 to be effective 10/10/2021.

Filed Date: 8/11/21.

Accession Number: 20210811-5169.

Comment Date: 5 p.m. ET 9/1/21.

Docket Numbers: ER21-2656-000.

Applicants: Solios Power LLC.

Description: Tariff Amendment: Cancellation of MBR Tariff to be effective 8/13/2021.

Filed Date: 8/12/21.

Accession Number: 20210812-5000.

Comment Date: 5 p.m. ET 9/2/21.

Docket Numbers: ER21-2657-000.

Applicants: MET West Trading LLC.

Description: Tariff Amendment: Cancellation of MBR Tariff to be effective 8/13/2021.

Filed Date: 8/12/21.

Accession Number: 20210812-5001.

Comment Date: 5 p.m. ET 9/2/21.

Docket Numbers: ER21-2658-000.

Applicants: Midcontinent Independent System Operator, Inc.

Description: § 205(d) Rate Filing: 021-08-12_SA 3193 Ameren Illinois-Hickory Solar 1st Rev GIA (J644) to be effective 7/29/2021.

Filed Date: 8/12/21.

Accession Number: 20210812-5036.

Comment Date: 5 p.m. ET 9/2/21.

Docket Numbers: ER21-2659-000.

Applicants: Southern California Edison Company.

Description: Tariff Amendment: Notices of Termination SA Nos. 36 and 37 with CPCC to be effective 10/12/2021.

Filed Date: 8/12/21.

Accession Number: 20210812-5040.

Comment Date: 5 p.m. ET 9/2/21.

Docket Numbers: ER21-2660-000.

Applicants: Midcontinent Independent System Operator, Inc., Ameren Illinois Company.

Description: § 205(d) Rate Filing: Midcontinent Independent System Operator, Inc. submits tariff filing per 35.13(a)(2)(iii: 2021-08-12_SA 3686 Ameren Illinois-Lincoln Land Construction Agreement to be effective 10/12/2021.

Filed Date: 8/12/21.

Accession Number: 20210812-5041.

Comment Date: 5 p.m. ET 9/2/21.

Docket Numbers: ER21-2661-000.

Applicants: Central Maine Power Company.

Description: § 205(d) Rate Filing: Schedule 20A Service Agreement to be effective 11/1/2020.

Filed Date: 8/12/21.

Accession Number: 20210812-5055.

Comment Date: 5 p.m. ET 9/2/21.

Docket Numbers: ER21-2662-000.

Applicants: The United Illuminating Company.

Description: § 205(d) Rate Filing: Schedule 20A Service Agreement to be effective 11/1/2020.

Filed Date: 8/12/21.

Accession Number: 20210812-5057.

Comment Date: 5 p.m. ET 9/2/21.

Docket Numbers: ER21-2663-000.

Applicants: Tri-State Generation and Transmission Association, Inc.

Description: Tariff Amendment: Notice of Cancellation of Rate Schedule FERC No. 98 to be effective 8/13/2021.

Filed Date: 8/12/21.

Accession Number: 20210812-5060.

Comment Date: 5 p.m. ET 9/2/21.

Docket Numbers: ER21-2664-000.

Applicants: Tri-State Generation and Transmission Association, Inc.

Description: § 205(d) Rate Filing: Amendment to Rate Schedule FERC No. 60 to be effective 8/13/2021.

Filed Date: 8/12/21.

Accession Number: 20210812-5062.

Comment Date: 5 p.m. ET 9/2/21.

Docket Numbers: ER21-2665-000.

Applicants: PJM Interconnection, L.L.C.

Description: § 205(d) Rate Filing: Amendment to ISA/CSA, Nos. 5852 and 5982; Queue No. AC2-079 to be effective 11/2/2020.

Filed Date: 8/12/21.

Accession Number: 20210812-5090.

Comment Date: 5 p.m. ET 9/2/21.

Docket Numbers: ER21-2666-000.

Applicants: Alabama Power Company.

Description: Tariff Amendment: Pike Road Farm LGIA Termination Filing to be effective 8/12/2021.

Filed Date: 8/12/21.

Accession Number: 20210812-5094.

Comment Date: 5 p.m. ET 9/2/21.

Docket Numbers: ER21-2667-000.

Applicants: Alabama Power Company.

Description: § 205(d) Rate Filing: Madden Solar Center LGIA Filing to be effective 7/29/2021.

Filed Date: 8/12/21.

Accession Number: 20210812-5095.

Comment Date: 5 p.m. ET 9/2/21.

Docket Numbers: ER21-2668-000.

Applicants: Southern California Edison Company.

Description: § 205(d) Rate Filing: Service Agreement with Cald BESS LLC SA No. 1151 to be effective 10/12/2021.

Filed Date: 8/12/21.

Accession Number: 20210812-5107.

Comment Date: 5 p.m. ET 9/2/21.

Docket Numbers: ER21-2669-000.

Applicants: Basin Electric Power Cooperative.

Description: Tariff Amendment: Basin Electric Notice of Cancellation for Service Agreement No. 29 to be effective 7/27/2021.

Filed Date: 8/12/21.

Accession Number: 20210812-5116.

Comment Date: 5 p.m. ET 9/2/21.

Docket Numbers: ER21-669-003.

Applicants: Morongo Transmission LLC.

Description: Compliance filing: Compliance Filing to Update Inputs to Morongo Transmission Tariff to be effective 5/15/2021.

Filed Date: 8/11/21.

Accession Number: 20210811-5182.

Comment Date: 5 p.m. ET 9/1/21.

Take notice that the Commission received the following public utility holding company filings:

Docket Numbers: PH21-16-000.

Applicants: Axium Infrastructure Inc.

Description:Axium Infrastructure Inc. submits FERC-65B Waiver Notification and Notice of Material Change in Facts.

Filed Date: 8/11/21.

Accession Number: 20210811-5197.

Comment Date: 5 p.m. ET 9/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date.

Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2021.
Debbie-Anne A. Reese,
Deputy Secretary.

[FR Doc. 2021-17706 Filed 8-17-21; 8:45 am]

BILLING CODE 6717-01-P